DEPARTMENT OF COMMERCE

National Oceanic and Atmospheric Administration

RIN 0648-XM90

Pacific Fishery Management Council; Public Meetings

AGENCY: National Marine Fisheries Service (NMFS), National Oceanic and Atmospheric Administration (NOAA), Commerce.

ACTION: Notice of public meeting.

SUMMARY: The Pacific Fishery Management Council's (Council) coastal pelagic species (CPS) advisory bodies will hold meetings, which are open to the public, on February 10-12, 2009. The primary purpose of the meetings is to comment on the draft terms of reference for the CPS stock assessment review process, review 2009 survey plans, develop plans for a report to the Council on long-term sardine allocation, and discuss revisions to the CPS Fishery Management Plan (FMP) in accordance with the reauthorized Magnuson-Stevens Fishery Conservation and Management Act.

DATES: The CPS Management Team (CPSMT) will meet on Tuesday, February 10, 2009, beginning at 1 p.m. and again on Wednesday, February 11, 2009, beginning at 8:30 a.m. Both meeting days will go until business for that day is completed. The CPS Advisory Subpanel (CPSAS) will meet Thursday, February 12, 2009, from 8:30 a.m. until business for the day is completed.

ADDRESSES: All meetings will be held in the Large Conference Room at the Southwest Fisheries Science Center of the National Marine Fisheries Service, 8604 La Jolla Shores Drive, La Jolla, CA 92037, (858) 546-7000.

Council address: Pacific Fishery Management Council, 7700 NE Ambassador Place, Suite 101, Portland, OR 97220-1384.

FOR FURTHER INFORMATION CONTACT: Mr. Mike Burner, Pacific Fishery Management Council, (503) 820-2280.

SUPPLEMENTARY INFORMATION: The CPSMT and CPSAS will also elect officers for 2009, discuss the 2009 Stock Assessment and Fishery Evaluation document, and address other issues relating to CPS management. The CPSMT and CPSAS will develop recommendations for Council consideration at its March 8-13, 2009 meeting in Seattle, Washington.

Although nonemergency issues not contained in the meeting agendas may be discussed, those issues may not be the subject of formal action during these meetings. Advisory body action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at 503-820-2280 at least five days prior to the meeting date.

Dated: January 21, 2009.
Tracey L. Thompson,
Acting Director, Office of Sustainable Fisheries, National Marine Fisheries Service.

[FR Doc. E9-1567 Filed 1-23-09; 8:45 am]

BILLING CODE 3510-22-S